NATIONAL SCIENCE FOUNDATION

Agency Information Collection Activities: Comment Request; Education and Human Resources Program Monitoring Clearance

AGENCY: National Science Foundation.

ACTION: Notice.

SUMMARY: Under the Paperwork Reduction Act of 1995, Public Law 104-13 (44 U.S.C. 3506(c)(2)(A)), and as part of its continuing effort to reduce paperwork and respondent burden, the National Science Foundation invites the general public and other Federal agencies to take this opportunity to comment on this information collection. This is the second notice for public comment; the first was published in the Federal Register at 80 FR 69701 and no comments were received. NSF is forwarding the proposed submission to the Office of Management and Budget (OMB) for clearance simultaneously with the publication of this second notice. The full submission may be found at: http://www.reginfo.gov/public/do/PRAMain.

DATES: Comments regarding these information collections are best assured of having their full effect if received by OMB within 30 days of publication in the Federal Register.

ADDRESSES: Written comments regarding the information collection and requests for copies of the proposed information collection request should be addressed to Suzanne Plimpton, Reports Clearance Officer, National Science Foundation, 4201 Wilson Blvd., Rm. 295, Arlington, VA 22230, or by email to splimpto@nsf.gov. Copies of the submission may be obtained by calling (703) 292-7556.

For Additional Information: Contact Suzanne Plimpton, the NSF Reports Clearance Officer, phone (703) 292-7556, or send email to splimpto@nsf.gov. Individuals who use a telecommunications device for the deaf (TDD) may call the Federal Information Relay Service (FIRS) at 1-800-877-8339, which is accessible 24 hours a day, 7 days a week, 365 days a year (including federal holidays).

An agency may not conduct or sponsor a collection of information unless the collection of information displays a currently valid OMB control number and the agency informs potential persons who are to respond to the collection of information that such persons are not required to respond to the collection of information unless it displays a currently valid OMB control number.

SUPPLEMENTARY INFORMATION:

Title of Collection: Education and Human Resources Program Monitoring Clearance.

OMB Approval Number: 3145-0226.

Type of Request: Intent to seek approval to renew an information collection.

Abstract: The National Science Foundation (NSF) requests establishment of program accountability data collections that describe and track the impact of NSF funding that focuses on the Nation's science, technology, engineering, and mathematics (STEM) education and STEM workforce. NSF funds grants, contracts, and cooperative agreements to colleges, universities, and other eligible institutions, and provides graduate research fellowships to individuals in all parts of the United States and internationally.

The Directorate for Education and Human Resources (EHR), a unit within NSF, promotes rigor and vitality within the Nation's STEM education enterprise to further the development of the 21st century's STEM workforce and public scientific literacy. EHR does this through diverse projects and programs that support research, extension, outreach, and hands-on activities that service STEM learning and research at all institutional (e.g., pre-school through postdoctoral) levels in formal and informal settings; and individuals of all ages (birth and beyond). EHR also focuses on broadening participation in STEM learning and careers among United States citizens, permanent residents, and nationals, particularly those individuals traditionally underemployed in the STEM research workforce, including but not limited to women, persons with disabilities, and racial and ethnic minorities.

The scope of this information collection request will primarily cover descriptive information gathered from education and training (E&T) projects that are funded by NSF. NSF will primarily use the data from this collection for program planning, management, and audit purposes to respond to queries from the Congress, the public, NSF's external merit reviewers who serve as advisors, including Committees of Visitors (COVs), the NSF's Office of the Inspector General, and as a basis for either internal or third-party evaluations of individual programs.

The collections will generally include three categories of descriptive data: (1) Staff and project participants (data that are also necessary to determine individual-level treatment and control groups for future third-party study or for internal evaluation); (2) project implementation characteristics (also necessary for future use to identify well-matched comparison groups); and (3) project outputs (necessary to measure baseline for pre- and post-NSF-funding-level impacts).

Use of the Information: This information is required for effective administration, communication, program and project monitoring and evaluation, and for measuring attainment of NSF's program, project, and strategic goals, and as identified by the President's Accountability in Government Initiative; GPRA, and the NSF's Strategic Plan. The Foundation's FY 2014-2018 Strategic Plan may be found at: http://www.nsf.gov/pubs/2014/nsf14043/nsf14043.pdf.

Since this collection will primarily be used for accountability and evaluation purposes, including responding to queries from COVs and other scientific experts, a census rather than sampling design typically is necessary. At the individual project level funding can be adjusted based on individual project's responses to some of the surveys. Some data collected under this collection will serve as baseline data for separate research and evaluation studies.

NSF-funded contract or grantee researchers and internal or external evaluators in part may identify control, comparison, or treatment groups for NSF's E&T portfolio using some of the descriptive data gathered through this collection to conduct well-designed, rigorous research and portfolio evaluation studies.

Respondents: Individuals or households, not-for-profit institutions, business or other for profit, and Federal, State, local, or tribal government.

Number of Respondents: 7,284.

Burden on the Public: NSF estimates that a total reporting and recordkeeping burden of 58,449 hours will result from activities to monitor EHR STEM education programs. The calculation is shown in table 1.

Table 1—Anticipated Programs That Will Collect Data on Project Progress and Outcomes Along With the Number of Respondents and Burden Hours per Collection per Year
Collection title | Number of respondents | Number of responses | Annual hour burden
Advancing Information STEM Learning (AISL) Monitoring System | 155 | 155 | 1,921
Centers of Research Excellence in Science and Technology (CREST) and Historically Black Colleges and Universities Research Infrastructure for Science and Engineering (HBCU-RISE) Monitoring System | 40 | 40 | 1,810
Graduate STEM Fellows in K-12 Education (GK-12) Monitoring System | 1,267 | 1,267 | 3,529
Integrative Graduate Education and Research Traineeship Program (IGERT) Monitoring System | 3,307 | 3,307 | 12,282
Louis Stokes Alliances for Minority Participation (LSAMP) Monitoring System | 563 | 563 | 12,949
Louis Stokes Alliances for Minority Participation Bridge to the Doctorate (LSAMP-BD) Monitoring System | 55 | 55 | 2,090
Robert Noyce Teacher Scholarship Program (Noyce) Monitoring System | 422 | 422 | 5,908
Research in Disabilities Education (RDE) Monitoring System | 12 | 12 | 1,368
Scholarships in Science, Technology, Engineering, and Mathematics (S-STEM) Monitoring System | 500 | 1,000 (500 respondents × 2 responses/yr.) | 6,000
Science, Technology, Engineering, and Mathematics Talent Expansion Program (STEP) Monitoring System | 277 | 277 | 6,648
Transforming Undergraduate Education in Science, Technology, Engineering, and Mathematics (TUES) Monitoring System | 686 | 686 | 2,744
Additional Collections not Specified | 900 | 900 | 1,200
Total | 8,184 | 8,684 | 58,449

The total estimate for this collection is 58,449 annual burden hours. The average annual reporting burden is between 1.7 and 114 hours per “respondent,” depending on whether a respondent is a direct participant who is self-reporting or representing a project and reporting on behalf of many project participants.

Dated: February 3, 2016.
Suzanne H. Plimpton,
Reports Clearance Officer, National Science Foundation.

[FR Doc. 2016-02520 Filed 2-8-16; 8:45 am]

BILLING CODE 7555-01-P